DEPARTMENT OF JUSITCE

Notice of Lodging of Consent Decree Under the Comprehensive Environmental Response, Compensation, and Liability Act (“CERCLA”)

Notice is hereby given that on November 15, 2011, a proposed Consent Decree (“proposed Decree”) in United States v. Occidental Chemical Corporation, et al, Civil Action No. 11-CV-7149 was lodged with the United States District Court for the Eastern District of Pennsylvania.

In this action under Section 107(a) of the Comprehensive Environmental Response, Compensation, and Liability Act, 42 U.S.C. 9607(a) (“CERCLA”), the United States sought reimbursement of response costs incurred or to be incurred for response actions taken at or in connection with the release or threatened release of hazardous substances at the Occidental Chemical Corporation Superfund Site located in Lower Pottsgrove Township, Montgomery County, Pennsylvania. The proposed Decree requires Settling Defendants to pay $2,130,600.88 to the United States in reimbursement of past response costs. The proposed Decree also requires the Performing Settling Defendants to pay all future response costs and continue to perform the work for operable unit 2 at the Site, which is the final operable unit to be remediated under the 1993 Record of Decision.

The proposed Decree provides the Settling Defendants with a covenant not to sue under Section 107(a) of CERCLA, 42 U.S.C. 9607(a) for past response costs and a covenant not to sue for future response costs to Performing Settling Defendants only.

The Department of Justice will receive for a period of thirty (30) days from the date of this publication comments relating to the proposed Decree. Comments should be addressed to the Assistant Attorney General, Environment and Natural Resources Division, and either emails to emailed to pubcomment-ees.enrd@USDOJ.gov or mailed to P.O. Box 7611, U.S. Department of Justice, Washington, DC 20044-7611, and should refer to United States v. Occidental Chemical Corporation, et al., D.J. Ref. 90-11-2-913/1.

During the public comment period, the proposed Decree may be examined on the following Department of Justice Web site: http://www.usdoj.gov/enrd/Consent_Decrees.html. A copy of the proposed Decree may also be obtained by mail from the Consent Decree Library, P.O. Box 7611, U.S. Department of Justice, Washington, DC 20044-7611, or by faxing or emailing a request to Tonia Fleetwood: Tonia.Fleetwood@USDOJ.gov, fax no. (202) 514-0097, phone confirmation number: (202) 514-1547. In requesting a copy from the Consent Decree Library, please enclose a check in the amount of $8.00 (.25 cents per page reproduction cost) payable to the U.S. Treasury or, if by email or fax, please forward a check in that amount to the Consent Decree Library at the stated address.

Robert Brook,
Assistant Section Chief, Environmental Enforcement Section, Environment and Natural Resources Division.

[FR Doc. 2011-30054 Filed 11-21-11; 8:45 am]

BILLING CODE 4410-15-P